DEPARTMENT OF COMMERCE

National Oceanic and Atmospheric Administration

[RTID 0648-XD161]

Gulf of Mexico Fishery Management Council; Public Hearings; Correction

AGENCY: National Marine Fisheries Service (NMFS), National Oceanic and Atmospheric Administration (NOAA), Commerce.

ACTION: Notice of correction to public hearings and webinars.

SUMMARY: The Gulf of Mexico Fishery Management Council (Council) will hold two virtual/webinar public hearings to solicit public comments on Joint Amendment with the Gulf and South Atlantic Council's to Address Electronic Reporting for Commercial Vessels participating in the coastal logbook program.

DATES: The public hearings will take place Monday, September 18, 2023 at 10 a.m., EDT and Tuesday, September 19, 2023 at 6 p.m., EDT and will conclude no later than 3 hours after the start time of each webinar. For specific dates and times, see SUPPLEMENTARY INFORMATION. Written public comments must be received on or before 5 p.m. EDT on October 17, 2023.

ADDRESSES: Please visit the Gulf Council website at www.gulfcouncil.org for meeting materials and webinar registration information. If you prefer to “listen in”, you may access the log-on information by visiting our website at www.gulfcouncil.org.

Meeting addresses: The public hearings will be held virtual/webinars. For specific locations, see SUPPLEMENTARY INFORMATION.

Public comments: Comments may be submitted online through the Council's

public portal by visiting www.gulfcouncil.org and clicking on “CONTACT US”.

FOR FURTHER INFORMATION CONTACT: Emily Muehlstein; Public Information Officer; emily.muehlstein@gulfcouncil.org, Gulf of Mexico Fishery Management Council; telephone: (813) 348-1630.

SUPPLEMENTARY INFORMATION: The original notice published in the Federal Register on July 31, 2023 (88 FR 49451). The hearings were scheduled for August 29th and 30th. The hearing dates had to be changed due to a hurricane.

The agenda for the following three webinar public hearings are as follows: Council and NOAA staff will begin with a presentation on the proposed management change addressed in the Amendment Addressing Electronic Reporting for Commercial Vessels. The Gulf and South Atlantic Councils are currently considering requiring federal commercial permit holders to submit commercial coastal logbooks electronically, rather than mailing paper logbooks. This amendment would impact commercial Reef Fish and Coastal Migratory Pelagic permit holders in the Gulf of Mexico and commercial Snapper/Grouper and Dolphin/Wahoo permit holders in the South Atlantic.

Staff and a Council member will be available to answer any questions, and the public will have the opportunity to provide testimony on the amendment and other related testimony at the end of each public hearing webinar.

Webinars:

Tuesday, September 18, 2023; webinar to begin at 10 a.m., EDT.

Wednesday, September 19, 2023; webinar to begin at 6 p.m., EDT.

Visit www.gulfcouncil.org website and click on the “meetings” tab for registration information. After registering, you will receive a confirmation email containing information about joining the webinar.

Authority: 16 U.S.C. 1801 et seq.

Dated: August 31, 2023.
Rey Israel Marquez,
Acting Deputy Director, Office of Sustainable Fisheries, National Marine Fisheries Service.

[FR Doc. 2023-19270 Filed 9-6-23; 8:45 am]

BILLING CODE 3510-22-P